DEPARTMENT OF COMMERCE

Foreign-Trade Zones Board

[B-32-2018]

Foreign-Trade Zone (FTZ) 230—Piedmont Triad Area, North Carolina; Authorization of Production Activity; Deere-Hitachi Construction Machinery Corp.; (Forestry Machinery, and Forestry Machinery and Hydraulic Excavator Frames/Booms/Arms); Kernersville, North Carolina

On May 11, 2018, Deere-Hitachi Construction Machinery Corp. submitted a notification of proposed production activity to the FTZ Board for its facility within FTZ 230—Sites 30 and 32 in Kernersville, North Carolina.

The notification was processed in accordance with the regulations of the FTZ Board (15 CFR part 400), including notice in the Federal Register inviting public comment (83 FR 24084, May 24, 2018). On September 10, 2018, the applicant was notified of the FTZ Board's decision that no further review of the activity is warranted at this time. The production activity described in the notification was authorized, subject to the FTZ Act and the FTZ Board's regulations, including Section 400.14.

Dated: September 10, 2018.
Andrew McGilvray,
Executive Secretary.

[FR Doc. 2018-20255 Filed 9-17-18; 8:45 am]

BILLING CODE 3510-DS-P